NUCLEAR REGULATORY COMMISSION

[Docket No. 150-00004-CivP (EA 01-271), and ASLBP No. 02-802-01-CivP]

Decisive Testing, Inc.; Establishment of Atomic Safety and Licensing Board

Pursuant to delegation by the Commission dated December 29, 1972, published in the Federal Register, 37 FR 28,710 (1972), and Sections 2.205, 2.700, 2.702, 2.714, 2.714a, 2.717, 2.721, and 2.772(j) of the Commission's Regulations, all as amended, an Atomic Safety and Licensing Board is being established to preside over the following proceeding: Decisive Testing, Inc., San Diego, California, Order Imposing Civil Monetary Penalty.

This Board is being established pursuant to the request of Decisive Testing, Inc., for a hearing regarding an order issued by the NRC staff, dated June 11, 2002, entitled “Order Imposing Civil Monetary Penalty” (67 FR 41,741 (June 19, 2002)).

The Board is comprised of the following administrative judges:

Ivan Smith, Chairman, Atomic Safety and Licensing Board Panel, U.S. Nuclear Regulatory Commission, Washington, DC 20555-0001;

Dr. Peter S. Lam, Atomic Safety and Licensing Board Panel, U.S. Nuclear Regulatory Commission, Washington, DC 20555-0001;

Thomas D. Murphy, Atomic Safety and Licensing Board Panel, U.S. Nuclear Regulatory Commission, Washington, DC 20555-0001.

All correspondence, documents and other materials shall be filed with the Panel Judges in accordance with 10 CFR § 2.701.

Issued at Rockville, Maryland, this 22nd day of July, 2002.
G. Paul Bollwerk III,
Chief Administrative Judge, Atomic Safety and Licensing Board Panel.

[FR Doc. 02-18969 Filed 7-25-02; 8:45 am]

BILLING CODE 7590-01-P